DEPARTMENT OF COMMERCE

International Trade Administration

[A-489-501]

Notice of Amended Final Results of Antidumping Duty Administrative Review: Certain Welded Carbon Steel Pipe and Tube from Turkey

AGENCY: Import Administration, International Trade Administration, Department of Commerce.

SUMMARY: On December 5, 2005, the Department of Commerce (“the Department”) issued the final results of its administrative review of the antidumping duty order on certain welded carbon steel pipe and tube (“welded pipe and tube”) from Turkey.¹ The period of review is May 1, 2003, through April 30, 2004. Based on the correction of certain ministerial errors, we have changed the margins for the Borusan Group (“Borusan”) and for the Yucel Group, which includes Cayirova Boru Sanayi ve Ticaret A.S. and its affiliate, Yucel Boru Ithalat-Ihracat ve Pazarlama A.S. (collectively referred to as “Cayirova”).

¹ See Notice of Final Results of Antidumping Duty Administrative Review: Certain Welded Carbon Steel Pipe and Tube from Turkey, 70 FR 73447 (December 12, 2005).

EFFECTIVE DATE: January 24, 2006.

FOR FURTHER INFORMATION CONTACT: Christopher Hargett, George McMahon, or Jim Terpstra, AD/CVD Operations, Office 3, Import Administration, International Trade Administration, U.S. Department of Commerce, 14th Street and Constitution Avenue, NW., Washington, DC 20230; telephone: (202) 482-4161, (202) 482-1167 or (202) 482-3965, respectively.

SUPPLEMENTARY INFORMATION:

Background

On December 12, 2005, the Department published in the Federal Register the final results of the administrative review of the antidumping duty order on welded pipe and tube from Turkey. We received timely allegations of ministerial errors from Borusan and Cayirova. In its comments dated December 9, 2005, Borusan alleged that the Department erred in that it did not include certain U.S. sales in the margin program. In its comments dated December 12, 2005, Cayirova alleged that the Department erred in the revised credit calculation in the home market (CREDITH). Petitioner did not comment on the ministerial errors alleged by respondents.² We agree with respondents that these errors are ministerial errors and have amended the final results to correct the errors referenced herein. For a full explanation of changes made by the Department, please see the Memorandum from Melissa G. Skinner to Stephen J. Claeys, Deputy Assistant Secretary for Import Administration, Ministerial Error Allegations Concerning the Notice of Final Results of Antidumping Duty Administrative Review on Certain Welded Carbon Steel Pipe and Tube from Turkey, available in the Central Records Unit, room B099 of the main Department building.

² Petitioners are Allied Tube and Conduit Corporation, and Wheatland Tube Company.

Amended Final Results of Review

As a result of the correction of ministerial errors, the following weighted-average percentage margins exist for the period May 1, 2003, through April 30, 2004:

Manufacturer/Exporter | Margin (percent) | Amended Margin (percent)
Borusan | 0.86 | 0.74
Cayirova | 3.52 | 3.28

The Department shall determine, and the U.S. Customs and Border Protection (“CBP”) shall assess, antidumping duties on all appropriate entries. In accordance with section 351.212(b)(1) of the Department's regulations, we have calculated importer-specific assessment rates by dividing the dumping margin found on the subject merchandise examined by the entered value of such merchandise. Where the importer-specific assessment rate is above de minimis, we will instruct CBP to assess antidumping duties on that importer's entries of subject merchandise. The Department will issue appropriate assessment instructions directly to CBP within 15 days of publication of these amended final results of review.

Furthermore, the following deposit requirements will be effective for all shipments of the subject merchandise entered, or withdrawn from warehouse, for consumption on or after the publication date of these amended final results of administrative review, as provided by section 751(a) of the Tariff Act of 1930, as amended (“the Act”): (1) For the companies named above, the cash deposit rate will be the rate listed above; (2) for merchandise exported by manufacturers or exporters not covered in this review but covered in a previous segment of this proceeding, the cash deposit rate will continue to be the company-specific rate published in the most recent final results in which that manufacturer or exporter participated; (3) if the exporter is not a firm covered in this review or in any previous segment of this proceeding, but the manufacturer is, the cash deposit rate will be that established for the manufacturer of the merchandise in these final results of review or in the most recent segment of the proceeding in which that manufacturer participated; and (4) if neither the exporter nor the manufacturer is a firm covered in this review or in any previous segment of this proceeding, the cash deposit rate will be 14.74 percent, the “All-others” rate established in the less-than-fair-value investigation. These deposit requirements shall remain in effect until publication of the final results of the next administrative review.

We are issuing and publishing this determination and notice in accordance with sections 751(a)(1) and 777(i)(1) of the Act.

Dated: January 18, 2006.
David M. Spooner,
Assistant Secretary for Import Administration.

[FR Doc. E6-824 Filed 1-23-06; 8:45 am]

BILLING CODE 3510-DS-S